DEPARTMENT OF DEFENSE

Department of the Army; Corps of Engineers

Notice of Availability of a Final Environmental Impact Statement for the Proposed SR 1409 (Military Cutoff Road) Extension and Proposed US 17 Hampstead Bypass New Hanover and Pender Counties in North Carolina, NCDOT TIP Projects U-4751 and R-3300

AGENCY: Department of the Army, U.S. Army Corps of Engineers, DoD.

ACTION: Notice of Availability.

SUMMARY: The U.S. Army Corps of Engineers (COE), Wilmington District, Wilmington Regulatory Division is issuing this notice to advise the public that a State of North Carolina funded Final Environmental Impact Statement (FEIS) has been prepared for a road improvement project starting at Military Cutoff Road in New Hanover County to north of Hampstead along US 17, Pender County, NC (TIP Projects U-4751 and R-3300).

DATES: Written comments on the FEIS will be received until September 8, 2014.

ADDRESSES: Mr. Brad Shaver, Regulatory Project Manager, Wilmington Regulatory Field Office, 69 Darlington Ave., Wilmington, NC 28403 or Mr. Jay McInnis, Project Engineer, North Carolina Department of Transportation, 1548 Mail Service Center, Raleigh, NC 27699-1548.

FOR FURTHER INFORMATION CONTACT: Questions about the proposed action and FEIS can be directed to Mr. Brad Shaver, COE—Regulatory Project Manager, telephone: (910) 251-4611 or Mr. Jay McInnis Jr., P.E., NCDOT—Project Engineer, telephone: (919) 707-6029.

SUPPLEMENTARY INFORMATION: The COE in cooperation with the North Carolina Department of Transportation prepared a Draft Environmental Impact Statement (DEIS), originally published in 2011, on a proposal to make transportation improvements to the US 17 and Market Street (US 17 Business) corridor in northern New Hanover and southern Pender Counties. Two North Carolina Department of Transportation Improvement Program (TIPs U-4751 and R-3300) projects are being evaluated as part of the US 17 Corridor Study.

The purpose of the US 17 Corridor Study project is to improve the traffic carrying capacity and safety of the US 17 and Market Street corridor in the project area. The project study area is roughly bounded on the west by I-40, on the north by the Northeast Cape Fear River, Holly Shelter Game Lands to the east, and Market Street and US 17 to the south.

This project is being reviewed through the Merger 01 process designed to streamline the project development and permitting processes, agreed to by the COE, North Carolina Department of Environment and Natural Resources (Division of Water Quality, Division of Coastal Management), Federal Highway Administration (for this project not applicable), and the North Carolina Department of Transportation and supported by other stakeholder agencies and local units of government. The other partnering agencies include: U.S. Environmental Protection Agency; U.S. Fish and Wildlife Service; N.C. Wildlife Resources Commission; N.C. Department of Cultural Resources; and the Wilmington Metropolitan Planning Organization. The Merger process provides a forum for appropriate agency representatives to discuss and reach consensus on ways to facilitate meeting the regulatory requirements of Section 404 of the Clean Water Act during the NEPA/SEPA decision-making phase of transportation projects.

Through input from the public and resource agencies the project was changed to include a second interchange at the northern terminus. These changes were considered substantial changes and the public was given opportunity again to comment through the release of a supplement Draft EIS published in October 2013. Comments were received on both the Draft and Supplement Draft EIS which have been addressed in this FEIS. The original Draft EIS, Supplement DEIS, and FEIS is available for review on the project Web page: http://www.ncdot.gov/projects/US17HampsteadBypass/.

Any person having difficulty in viewing the document online can contact the COE project manager or the NCDOT project manager for a CD copy of the document.

After distribution and review of Final EIS, the Applicant understands that the U.S. Army Corps of Engineers will issue a Record of Decision (ROD) for the project at the time of permit application from the North Carolina Department of Transportation. The ROD will document the completion of the EIS process and will serve as a basis for permitting decisions by this federal agency.

To ensure that the full range of issues related to this proposed action are addressed and all significant issues identified, comments and suggestions are invited from all interested parties. Comments or questions concerning this proposed action and the FEIS should be directed to the U.S. Army Corps of Engineers at the address provided. The Wilmington District will periodically issue Public Notices soliciting public and agency comment on the proposed action and alternatives to the proposed action as they are developed.

Dated: August 1, 2014.
Henry Wicker,
Assistant Chief, Wilmington Regulatory Division.

[FR Doc. 2014-18779 Filed 8-7-14; 8:45 am]

BILLING CODE 3720-58-P